DEPARTMENT OF ENERGY

Federal Energy Regulatory Commission

[Project No. 2445-028]

Green Mountain Power Corporation; Notice of Intent To Prepare an Environmental Assessment

On December 23, 2021, Green Mountain Power Corporation filed a relicense application for the 275-kilowatt Center Rutland Hydroelectric Project No. 2445 (project). The project is located on Otter Creek in Rutland County, Vermont.

In accordance with the Commission's regulations, on February 17, 2023, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the project.

The EA will be issued and circulated for review by all interested parties. All comments filed on the EA will be analyzed by staff and considered in the Commission's final licensing decision.

The application will be processed according to the following schedule. Revisions to the schedule may be made as appropriate.

Milestone | Target date
Commission issues EA | October 2023.¹
Comments on EA | November 2023.

Any questions regarding this notice may be directed to Nicholas Tackett at (202) 502-6783 or Nicholas.Tackett@ferc.gov.

¹ The Council on Environmental Quality's (CEQ) regulations under 40 CFR 1501.10(b)(1) require that EAs be completed within 1 year of the federal action agency's decision to prepare an EA. This notice establishes the Commission's intent to prepare an EA for the Center Rutland Hydroelectric Project. Therefore, in accordance with CEQ's regulations, the EA must be issued within 1 year of the issuance date of this notice.

Dated: April 28, 2023.
Kimberly D. Bose,
Secretary.

[FR Doc. 2023-09487 Filed 5-3-23; 8:45 am]

BILLING CODE 6717-01-P